DEPARTMENT OF COMMERCE

National Oceanic and Atmospheric Administration

RIN 0648-XA127

New England Fishery Management Council; Public Meeting

AGENCY: National Marine Fisheries Service (NMFS), National Oceanic and Atmospheric Administration (NOAA), Commerce.

ACTION: Notice of a public meeting.

SUMMARY: The New England Fishery Management Council (Council) will hold a 3-day Council meeting on Tuesday-Thursday, January 25-27, 2011 to consider actions affecting New England fisheries in the exclusive economic zone (EEZ).

DATES: The meeting will begin at 9 a.m. on Tuesday, January 25 and at 8:30 a.m. on each of the following two meeting days.

ADDRESSES: The meeting will be held at the Sheraton Harborside Hotel, 250 Market Street, Portsmouth, NH 03801; telephone: (603) 431-2300 and fax: (603) 433-5649.

Council address: New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, January 25, 2011

Following introductions and any announcements, the Council will begin its meeting with a series of brief reports from the Council Chairman and Executive Director, the NOAA Fisheries Northeast Regional Administrator, Northeast Fisheries Science Center and Mid-Atlantic Fishery Management Council liaisons, NOAA General Counsel, representatives of the U.S. Coast Guard and the Atlantic States Marine Fisheries Commission, as well as NOAA Enforcement. These reports will be followed by a review of any experimental fishery permit applications that have been received since the last Council meeting in November 2010. The Chairman of the Habitat Committee will then provide a brief update on activities to date to complete Habitat Omnibus 2, an action that will amend all of the Council's Fishery Management Plans (FMPs) with respect to Essential Fish Habitat and minimizing the habitat impacts of fishing activities. Members of the Council's Scientific and Statistical Committee (SSC) will report on their white paper and further outline approaches to undertaking ecosystem-based fisheries management. Prior to a lunch break, an Ocean Observatories Initiative representative will present an outline of their project—a networked sensor system array proposed for offshore Southern New England to measure the physical, chemical, geological and biological variables in the ocean and its seafloor. During the afternoon session, the Council will accept public comments on issues related to fisheries management, but not listed on the meeting agenda. Later, the Skate Committee will discuss and the Council will consider approval of an action to lower the skate wing possession limit for the 2011 fishing year. A Northeast Fisheries Science Center representative will report on the November 2010 Stock Assessment Workshop/Stock Assessment Review Committee meeting that determined the status of Loligo, and five species of hake. The day will conclude with a report on the recent International Commission for the Conservation of Atlantic Tunas (ICCAT) meeting. The focus will be on bluefin tuna and northern swordfish.

Wednesday, January 26, 2011

During the morning session, the Council may initiate a framework adjustment to the Northeast Multispecies FMP that could include a catch cap for haddock taken in the herring midwater trawl fishery. Following this discussion, the Herring Committee will ask the Council to approve management alternatives for inclusion in a Draft Environmental Impact Statement that will accompany Amendment 5 to the Atlantic Herring FMP. The action may address the following: catch monitoring alternatives; river herring bycatch; midwater trawl access to the groundfish closed areas; interactions with the Atlantic mackerel fishery; and protection for spawning herring. This agenda item will be discussed until the meeting adjourns at the end of the business day.

Thursday, November 19, 2009

The last day of the Council meeting will begin with a discussion of an amendment to the Northeast Multispecies FMP that could authorize state-operated permit banks as well as groundfish fleet diversity and accumulation limits. The Council also may discuss recent legislation that will affect the U.S./Canada Resource Sharing Understanding and may comment on the NMFS proposed rule for Framework Adjustment 45 to the Multispecies FMP. NOAA General Counsel in the Northeast Region will provide an update on case developments and/or regulatory issues that have arisen over the last six-to-eight months. Following this review, the Council plans to initiate Framework Adjustment 23 to the Sea Scallop FMP. The action could require scallop dredge vessels to use a turtle excluder device, possibly modify the amount of yellowtail flounder allocated to the scallop fishery and modify the limited access general category program in the Northern Gulf of Maine. The Council also plans to take final action on Framework Adjustment 7 to the Monkfish FMP. Included are measures to revise the biomass reference points, and accordingly, the Annual Catch Target in the monkfish Northern Management Area. Days-at-sea and trip limits for the 2011-13 fishing years also will be modified. Before adjournment, the Council may address any other outstanding business related to this meeting.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: December 30, 2010.
William D. Chappell,
Acting Director, Office of Sustainable Fisheries, National Marine Fisheries Service.

[FR Doc. 2010-33282 Filed 1-4-11; 8:45 am]

BILLING CODE 3510-22-P